SECURITIES AND EXCHANGE COMMISSION

[Securities Exchange Act of 1934; Release No. 79370/November 21, 2016]

In the Matter of the New York Stock Exchange LLC for an Order Granting the Approval of Proposed Rule Change Adopting Maximum Fees Member Organizations May Charge in Connection With the Distribution of Investment Company Shareholder Reports Pursuant to Any Electronic Delivery Rules Adopted by the Securities and Exchange Commission; Order Scheduling Filing of Statements on Review

On August 15, 2016, the New York Stock Exchange LLC (“NYSE”) filed with the Securities and Exchange Commission (“Commission”), pursuant to Section 19(b)(1) of the Securities Exchange Act of 1934 ¹ and Rule 19b-4 thereunder,² a proposed rule change to adopt maximum fees NYSE member organizations may charge in connection with the distribution of investment company shareholder reports pursuant to any “notice and access” electronic delivery rules adopted by the Commission.³ On October 5, 2016, the Commission extended the time period for Commission action on the proposal to November 20, 2016.⁴ On November 18, 2016, the Division of Trading and Markets took action, pursuant to delegated authority, 17 CFR 200.30-3(a)(12), approving the proposed rule change.⁵

¹ 15 U.S.C. 78s(b)(1).

² 17 CFR 240.19b-4.

³ Notice of Filing of Proposed Rule Change Adopting Maximum Fees Member Organizations may Charge in Connection with the Distribution of Investment Company Shareholder Reports Pursuant to Any Electronic Delivery Rules Adopted by the Securities and Exchange Commission, Securities Exchange Act of 1934, Release No. 78589 (August 16, 2016), 81 FR 56717 (August 22, 2016) (SR-NYSE-2016-55).

⁴ Notice of Designation of a Longer Period for Commission Action on Proposed Rule Change Adopting Maximum Fees Member Organizations May Charge in Connection with the Distribution of Investment Company Shareholder Reports Pursuant to Any Electronic Delivery Rules Adopted by the Securities and Exchange Commission, Securities Exchange Act of 1934, Release No. 79051 (October 5, 2016), 81 FR 70449 (October 12, 2016).

⁵ Order Granting Approval of Proposed Rule Change Adopting Maximum Fees Member Organizations May Charge in Connection with the Distribution of Investment Company Shareholder Reports Pursuant to Any Electronic Delivery Rules Adopted by the Securities and Exchange Commission, Securities Exchange Act of 1934, Release No. 79355 (November 18, 2016).

Pursuant to Commission Rule of Practice 431,⁶ the Commission is reviewing the delegated action and the November 18, 2016 order is stayed.

⁶ 17 CFR 201.431.

Accordingly, it is ordered, pursuant to Rule of Practice 431, that by December 7, 2016, any party or other person may file any additional statement.

It is further ordered that the November 18, 2016 order approving the proposed rule change (SR-NYSE-2016-55) shall remain stayed pending further order of the Commission.

By the Commission.
Brent J. Fields,
Secretary.

[FR Doc. 2016-28456 Filed 11-25-16; 8:45 am]

BILLING CODE 8011-01-P